DEPARTMENT OF COMMERCE

International Trade Administration

[A-570-890]

Wooden Bedroom Furniture From the People's Republic of China: Notice of Court Decision Not in Harmony With Final Results of Administrative Review and Notice of Amended Final Results of Administrative Review Pursuant to Court Decision

AGENCY: Enforcement and Compliance, International Trade Administration, Department of Commerce.

SUMMARY: On October 28, 2014, the United States Court of International Trade (“CIT”) sustained the Department of Commerce's (“the Department”) results of redetermination, pursuant to the CIT's remand order, in Lifestyle Enterprise, Inc., et al., v. United States, Consol. Ct. No. 09-00378.¹ Consistent with the decision of the United States Court of Appeals for the Federal Circuit (“CAFC”) in Timken Co. v. United States, 893 F.2d 337 (Fed. Cir. 1990) (“Timken”), as clarified by Diamond Sawblades Mfrs. Coalition v. United States, 626 F.3d 1374 (Fed. Cir. 2010) (“Diamond Sawblades”), the Department is notifying the public that the final judgment in this case is not in harmony with the Department's AR 3 Final Results ² and is amending the final results with respect to the margins assigned to Guandong Yihua Timber Industry Co., Ltd. (“Yihua Timber”) for the period of review (“POR”) January 1, 2007 through December 31, 2007.

¹ See Final Results of Redetermination Pursuant to Fourth Remand, Court No. 09-00378, dated October 16, 2014, available at: http://enforcement.trade.gov/remands/index.html (“WBF Final Remand”).

² See Final Results of Antidumping Duty Administrative Review and New Shipper Reviews: Wooden Bedroom Furniture From the People's Republic of China, 74 FR 41374 (August 17, 2009), as amended by Amended Final Results of Antidumping Duty Administrative Review and New Shipper Reviews: Wooden Bedroom Furniture From the People's Republic of China, 74 FR 55810 (October 29, 2009) (collectively, “AR 3 Final Results”).

DATES: Effective Date: November 7, 2014.

FOR FURTHER INFORMATION CONTACT: Paul Stolz, AD/CVD Operations, Office III, Enforcement and Compliance, International Trade Administration, U.S. Department of Commerce, 14th Street and Constitution Avenue NW., Washington, DC 20230; telephone: (202) 482-4474.

SUPPLEMENTARY INFORMATION: Subsequent to the publication of the AR 3 Final Results, various plaintiffs filed complaints with the CIT to challenge certain aspects of the AR 3 Final Results of the Department's third administrative review of the antidumping duty order on wooden bedroom furniture from the People's Republic of China.

In Lifestyle Enterprise, Inc. v. United States, 768 F. Supp. 2d 1286 (Ct. Int'l Trade 2011), the CIT remanded the case to the Department to “explain or otherwise resolve” Orient International Holding Shanghai Foreign Trade Co. Ltd.'s (“Orient”) separate rate, the data set for wood inputs, the tariff heading for medium density fiberboard, whether Global Classic Designs, Inc, and Diretso Design Furnitures, Inc. produce comparable merchandise through a comparable production process, surrogate labor value, and negative export pricing.

In Lifestyle Enterprise, Inc. v. United States, 844 F. Supp. 2d 1283 (Ct. Int'l Trade 2012), the CIT remanded the case to the Department to re-determine Orient's AFA rate and to re-open the record to gather more evidence with respect to wood inputs, or to use the volume-based data set to value wood inputs.

In Lifestyle Enterprise, Inc. v. United States, 865 F. Supp. 2d 1284 (Ct. Int'l Trade 2012), the CIT remanded the issue of Orient's AFA rate to the Department for reconsideration for a second time.

In Lifestyle Enterprise, Inc. v. United States, 751 F.3d 1371 (Fed. Cir. 2014), the CAFC reversed the CIT's decision to require the use of volume-based data in valuing the lumber inputs, and remanded the issue to the Department for further proceedings consistent with its opinion.

Timken Notice

In its decision in Timken, 893 F.2d at 341, as clarified by Diamond Sawblades, the CAFC held that, pursuant to section 516A(e) of the Tariff Act of 1930, as amended (the “Act”), the Department must publish a notice of a court decision that is not “in harmony” with a Department determination and must suspend liquidation of entries pending a “conclusive” court decision. The CIT's October 28, 2014, judgment sustaining the WBF Final Remand constitutes a final decision of that court that is not in harmony with the AR 3 Final Results. This notice is published in fulfillment of the publication requirements of Timken.

Amended Final Results

Because there is now a final court decision with respect to the AR 3 Final Results, the revised weighted-average dumping margin for the period January 1, 2007 through December 31, 2007, for Yihua Timber is 21.53 percent. The revised AFA rate assigned to Orient for the period January 1, 2007 through December 31, 2007, is 83.55 percent. Accordingly, the Department will continue the suspension of liquidation of the subject merchandise exported by Yihua Timber pending the expiration of the period of appeal or, if appealed, pending a final and conclusive court decision. In the event the Court's ruling is not appealed, or if appealed and upheld by the Supreme Court, the Department will instruct U.S. Customs and Border Protection to assess antidumping duties on entries during the POR of the subject merchandise exported by the Yihua Timber using the revised assessment rates calculated by the Department in the WBF Final Remand.

Notification to Interested Parties

This notice is issued and published in accordance with sections 516A(e)(1), 751(a)(1), and 777(i)(1) of the Act.

Dated: November 7, 2014.
Ronald K. Lorentzen,
Acting Assistant Secretary for Enforcement and Compliance.

[FR Doc. 2014-27157 Filed 11-14-14; 8:45 am]

BILLING CODE P